FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011733-034.

Title: Common Ocean Carrier Platform Agreement.

Parties: A.P. Moller-Maersk A/S; CMA CGM; Hamburg-Süd; Hapag-Lloyd AG; Mediterranean Shipping Company S.A.; and United Arab Shipping Company (S.A.G.) as shareholder parties, and American President Lines, Ltd., APL Co., Pte Ltd.; Alianca Navegacao e Logistica Ltda.; China Shipping Container Lines Company Limited; Compania Chilena de Navegacion Interoceanica S.A.; Compania Sud Americana de Vapores, S.A.; Companhia Libra de Navegacao; COSCO Container Lines Co., Ltd.; Emirates Shipping Lines; Evergreen Line Joint Service Agreement; Gold Star Line, Ltd.; Hanjin Shipping Co., Ltd.; Hyundai Merchant Marine Co. Ltd; Industrial Maritime Carriers, LLC; Kawasaki Kisen Kaisha, Ltd.; MISC Berhad; Mitsui O.S.K. lines Ltd.; Nippon Yusen Kaisha; Norasia Container Lines Limited; Safmarine MPV N.V.; Tasman Orient Line C.V.; U.S. Ocean, LLC; Yang Ming Marine Transport Corporation and Zim Integrated Shipping Services, Ltd. as non-shareholder parties.

Filing Party: Wayne R. Rohde, Esq.; Cozen O'Connor; 1627 I Street NW., Suite 1100; Washington, DC 20006.

Synopsis: The amendment corrects the address of APL Co. Pte Ltd.

Agreement No.: 012190-002.

Title: HSDG-GWF Space Charter Agreement.

Parties: Hamburg Sud and Great White Fleet Liner Services Ltd.

Filing Party: Wayne R. Rohde, Esq.; Cozen O'Connor; 1627 I Street NW., Suite 1100; Washington, DC 20006-4007.

Synopsis: The amendment extends the duration of the agreement and updates the title of the contact person for one of the parties.

Agreement No.: 012301.

Title: Siem Car Carrier Pacific AS/Volkswagen Logistics GMBH & Co. Space Charter Agreement.

Parties: Siem Car Carrier Pacific AS and Volkswagen Logistics GMBH & Co.

Filing Party: Ashley W. Craig, Esq. and Elizabeth K. Lowe, Esq.; Venable LLP; 575 Seventh Street NW., Washington, DC 20004.

Synopsis: The agreement authorizes the parties to engage in a limited range of cooperative activities, including but not limited to, vessel space chartering in the trade between the U.S. West Coast and Mexico.

Agreement No.: 012302.

Title: UASC/HSDG Space Charter Agreement.

Parties: United Arab Shipping Company (S.A.G.); and Hamburg Sud KG.

Filing Party: Wayne Rohde, Esq.; Cozen O'Connor; 1627 I Street NW., Suite 1100; Washington, DC 20006.

Synopsis: The agreement authorizes UASC to charter space to HSDG in the trade between Asia and Egypt, on the one hand, and the U.S. East and West Coasts, on the other hand.

By Order of the Federal Maritime Commission.
Dated: November 7, 2014.
Rachel E. Dickon,
Assistant Secretary.

[FR Doc. 2014-26859 Filed 11-12-14; 8:45 am]

BILLING CODE 6730-01-P